DEPARTMENT OF COMMERCE

International Trade Administration

[C-507-501]

Certain In-shell (Raw) Pistachios From the Islamic Republic of Iran: Extension of Time Limit for Preliminary Results of Countervailing Duty Administrative Review

AGENCY: Import Administration, International Trade Administration, Department of Commerce.

EFFECTIVE DATE: December 5, 2005.

FOR FURTHER INFORMATION CONTACT: Darla Brown, AD/CVD Operations, Office 3, Import Administration, U.S. Department of Commerce, Room 4014, 14th Street and Constitution Avenue, NW., Washington, DC 20230; telephone (202) 482-2786.

SUPPLEMENTARY INFORMATION:

Background

On March 11, 1986, the Department of Commerce (the Department) published in the Federal Register the countervailing duty order on certain in-shell pistachios from Iran. See Final Affirmative Countervailing Duty Determination and Countervailing Duty Order: In-shell Pistachios from Iran, 51 FR 8344 (March 11, 1986) (In-shell Pistachios). On March 1, 2005, the Department published in the Federal Register a notice of opportunity to request an administrative review of the countervailing duty order on in-shell pistachios from Iran (70 FR 9918). As a result of requests properly filed by the California Pistachio Commission (CPC) and Cal Pure Pistachios, Inc. (Cal Pure) on March 31, 2005, we are conducting an administrative review of the countervailing duty order on in-shell pistachios from Iran with respect to Tehran Negah Nima Trading Company, Inc. (Nima). On April 22, 2005, we published in the Federal Register the initiation of this countervailing duty administrative review (70 FR 20862). The preliminary results are currently due no later than December 1, 2005.

Extension of Time Limit for Preliminary Results of Review

Section 751(a)(3)(A) of the Tariff Act of 1930, as amended (the Act), requires the Department to issue preliminary results within 245 days after the last day of the anniversary month of an order for which a review is requested. However, if it is not practicable to complete the preliminary results of review within this time period, section 751(a)(3)(A) of the Act allows the Department to extend the time limit for the preliminary results to a maximum of 365 days.

We determine that it would not be practicable to complete this review by December 1, 2005. There are a large number of programs, including new subsidy programs, to be considered and analyzed by the Department by that deadline. As a result, the Department is extending the time limits for completion of the preliminary results until no later than February 14, 2006, which is 320 days from the last day of the anniversary month of the date of publication of the order. The deadline for the final results of review continues to be 120 days after the publication of the preliminary results.

This notice is issued and published in accordance with sections 751(a)(3)(A) and 777(i) of the Act.

Dated: November 28, 2005.
Stephen J. Claeys,
Deputy Assistant Secretary for Import Administration.

[FR Doc. E5-6847 Filed 12-2-05; 8:45 am]

BILLING CODE 3510-DS-S